DEPARTMENT OF THE TREASURY

Office of Foreign Assets Control

Publication of General License Related to the Syria Sanctions Program

AGENCY: Office of Foreign Assets Control, Treasury.

ACTION: Notice, publication of general license.

SUMMARY: The Department of the Treasury's Office of Foreign Assets Control (“OFAC”) is publishing General License No. 11A issued under the Syria sanctions program on June 12, 2013. General License No. 11A authorizes certain services in support of nongovernmental organizations' activities in Syria.

DATES: Effective Date: June 12, 2013.

FOR FURTHER INFORMATION CONTACT: Assistant Director for Sanctions Compliance & Evaluation, tel.: 202-622-2490, Assistant Director for Licensing, tel.: 202-622-2480, Assistant Director for Regulatory Affairs, tel.: 202-622-4855, Assistant Director for Policy, tel.: 202-622-2746, Office of Foreign Assets Control, or Chief Counsel (Foreign Assets Control), tel.: 202-622-2410, Office of the General Counsel, Department of the Treasury (not toll free numbers).

SUPPLEMENTARY INFORMATION:

Electronic and Facsimile Availability

This document and additional information concerning OFAC are available from OFAC's Web site (www.treasury.gov/ofac). Certain general information pertaining to OFAC's sanctions programs also is available via facsimile through a 24-hour fax-on-demand service, tel.: 202-622-0077.

Background

On June 12, 2013, OFAC issued General License No. 11A authorizing certain services in support of nongovernmental organizations' activities in Syria, including the activities formerly licensed by General License No. 11, dated September 26, 2011, and also activities to support the preservation and protection of cultural heritage sites in Syria. General License No. 11A replaces and supersedes in its entirety General License No. 11, dated September 26, 2011.

At the time of its issuance on June 12, 2013, OFAC made General License No. 11A available on its Web site. With this notice, OFAC is publishing General License No. 11A in the Federal Register.

General License No. 11A

Authorizing Certain Services in Support of Nongovernmental Organizations' Activities in Syria

(a) General License No. 11, dated September 26, 2011, is replaced and superseded in its entirety by this General License No. 11A.

(b) Nongovernmental organizations are authorized to export or reexport services to Syria that would otherwise be prohibited by section 2 of Executive Order 13582 of August 17, 2011 (“E.O. 13582”), in support of the following not-for-profit activities:

(1) Activities to support humanitarian projects to meet basic human needs in Syria, including, but not limited to, drought relief, assistance to refugees, internally displaced persons, and conflict victims, food and medicine distribution, and the provision of health services;

(2) Activities to support democracy building in Syria, including, but not limited to, rule of law, citizen participation, government accountability, and civil society development projects;

(3) Activities to support education in Syria, including, but not limited to, combating illiteracy, increasing access to education, and assisting education reform projects;

(4) Activities to support non-commercial development projects directly benefiting the Syrian people, including, but not limited to, preventing infectious disease and promoting maternal/child health, sustainable agriculture, and clean water assistance; and

(5) Activities to support the preservation and protection of cultural heritage sites in Syria, including, but not limited to, museums, historic buildings, and archaeological sites.

(c) U.S. depository institutions, U.S. registered brokers or dealers in securities, and U.S. registered money transmitters are authorized to process transfers of funds on behalf of U.S. or third-country non-governmental organizations to or from Syria in support of the activities authorized by paragraph (b), provided that, except as authorized by paragraph (e), the transfer is not by, to, or through the Government of Syria or any other person whose property and interests in property are blocked pursuant to Executive Order 13338 of May 11, 2004, Executive Order 13399 of April 25, 2006, Executive Order 13460 of February 13, 2008, Executive Order 13572 of April 29, 2011, Executive Order 13573 of May 18, 2011, E.O. 13582, or Executive Order 13606 of April 22, 2012, or with a person sanctioned pursuant to Executive Order 13608 of May 1, 2012 (collectively, the “Orders”).

(d) U.S. persons engaging in transactions pursuant to paragraph (b)(5) or processing transfers of funds to or from Syria in support of activities authorized by paragraph (b)(5) are required to file quarterly reports no later than 30 days following the end of the calendar quarter with the Office of Foreign Assets Control. The reports should include complete information on all activities and transactions undertaken pursuant to paragraph (b)(5) and paragraph (c) in support of the activities authorized by paragraph (b)(5) that took place during the reporting period, including the parties involved, the value of the transactions, the services provided, and the dates of the transactions. The reports should be addressed to the Office of Foreign Assets Control, Licensing Division, U.S. Treasury Department, 1500 Pennsylvania Avenue NW-Annex, Washington, DC 20220.

(e) Nongovernmental organizations are authorized to engage in transactions with the Government of Syria that are necessary for the activities authorized by paragraph (b) of this general license, including, but not limited to, payment of taxes, fees, and import duties to, and purchase or receipt of permits, licenses, or public utility services from, the Government of Syria.

(f) Except as authorized in paragraph (e), this general license does not authorize the exportation or reexportation of services to, charitable donations to or for the benefit of, or any other transactions involving, the Government of Syria or any other person blocked pursuant to the Orders. Specific licenses may be issued on a case-by case basis for these purposes.

Note To General License No. 11A: For guidance regarding exports or reexports to Syria, see General License No. 4A, “Exports or Reexports to Syria of Items Licensed or Otherwise Authorized by the Department of Commerce Authorized; Exports or Reexports of Certain Services Authorized.”

Dated: June 18, 2013.
Adam J. Szubin,
Director, Office of Foreign Assets Control.

[FR Doc. 2013-15048 Filed 6-24-13; 8:45 am]

BILLING CODE 4810-AL-P